DEPARTMENT OF STATE

[Public Notice: 11202]

Proposal To Extend Cultural Property Agreement Between the United States and Bolivia

AGENCY: Department of State.

ACTION: Public notice.

SUMMARY: Proposal to extend the Memorandum of Understanding Concerning the Imposition of Import Restrictions on Categories of Archaeological Material from the Pre-Columbian Cultures and Certain Ethnological Material from the Colonial and Republican Periods of Bolivia.

FOR FURTHER INFORMATION CONTACT: Allison Davis, Cultural Heritage Center, Bureau of Educational and Cultural Affairs: 202-632-6307; culprop@state.gov; include “Bolivia” in the subject line.

SUPPLEMENTARY INFORMATION: Pursuant to the authority vested in the Assistant Secretary of State for Educational and Cultural Affairs, and pursuant to 19 U.S.C. 2602(f)(1), an extension of the Memorandum of Understanding Concerning the Imposition of Import Restrictions on Categories of Archaeological Material from the Pre-Columbian Cultures and Certain Ethnological Material from the Colonial and Republican Periods of Bolivia is hereby proposed.

A copy of the Memorandum of Understanding, the Designated List of categories of material restricted from import into the United States, and related information can be found at the Cultural Heritage Center website: http://culturalheritage.state.gov.

Allison R. Davis,
Executive Director, CPAC, Bureau of Educational and Cultural Affairs, Department of State.

[FR Doc. 2020-20156 Filed 9-11-20; 8:45 am]

BILLING CODE 4710-05-P